DEPARTMENT OF AGRICULTURE

Forest Service

Canyon Lakes Ranger District, Arapaho and Roosevelt National Forests and Pawnee National Grassland, Colorado Re-issuance of Long Draw Reservoir Special Use Authorization to Occupy National Forest System Land

AGENCY: Forest Service, USDA.

ACTION: Notice of intent to prepare an environmental impact statement.

SUMMARY: The Arapaho and Roosevelt National Forests and Pawnee National Grassland (Forest) is proposing to reissue a special use authorization in the form of an easement to Water Supply and Storage Company of Fort Collins, Colorado for Long Draw Reservoir and Dam to occupy National Forest System (NFS) lands. The authorization would allow for use of approximately 54 acres of NFS land surrounding a United States Department of Interior Easement, the occupancy of which resulted from a 1975 expansion of the original reservoir. The facility stores and releases water as part of a network of water facilities.

DATES: Comments concerning the scope of the analysis must be received by June 24, 2005. The draft environmental impact statement is expected in August 2006 and the final environmental impact statement is expected in April 2007.

ADDRESSES: Send written comments to James S. Bedwell, Forest Supervisor, Arapaho and Roosevelt National Forests and Pawnee National Grassland, Attention: Lisa Subcasky, 2150 Centre Avenue, Building E, Fort Collins, Colorado 80526-8119. Telephone number: (970) 295-6600. Fax number: (970) 295-6696.

FOR FURTHER INFORMATION CONTACT: Lisa Subcasky, Project Leader, at (970) 295-6656, Arapaho and Roosevelt National Forests and Pawnee National Grassland, 2150 Centre Avenue, Building E, Fort Collins, Colorado 80526-8119.

SUPPLEMENTARY INFORMATION: Long Draw Reservoir is located approximately 35 miles west of Fort Collins in Larimer County in sections 10, 11, 15 and 16, T. 6 N., R. 75 W., 6th P.M. Long Draw Reservoir has a storage capacity of 10,800 acre feet and is owned and operated by Water Supply and Storage Company. The facility stores water from the Colorado River, which is imported across the continental divide through the Grand Ditch. In addition, the reservoir stores native water from La Poudre Pass Creek (also known as Long Draw Creek), a tributary of the Cache la Poudre River. The water from the reservoir is released into La Poudre Pass Creek and then into the Cache la Poudre River and used for irrigation or traded to other water users. The City of Thornton owns shares in Water Supply and Storage Company and has long term plans to transport water to the City for municipal use. La Poudre Pass Creek below the impoundment is inside Rocky Mountain National Park boundary. The Cache la Poudre River is a tributary of the South Platte River, which joins the North Platte in Nebraska to form the Platte River. The Platte River is a tributary of the Missouri River.

Although water is stored in Long Draw Reservoir throughout the winter, most storage occurs in May and June. When the reservoir is full or no longer in priority to store water, additional flow, both native and imported is passed through the reservoir. Water is typically released from reservoir storage in July and August. The gates of the reservoir are shut when the Grand Ditch is closed in preparation for winter, usually in October. All native flow is stored, and no water is released throughout the winter months until the Grand Ditch is reopened the following spring, usually in April or May. Reservoir seepage and groundwater inflow provide some flow at times during the winter. This leaves the stream channel immediately below the dam with little or no water flowing during that time. Because some of the effects of this facility occur on lands administered by the United States Department of Interior, National Park Service, Rocky Mountain National Park, that agency has been asked to be a cooperating agency in this analysis.

Construction of Long Draw Reservoir was completed in 1929 then enlarged and the dam rebuilt in 1974. The facility was authorized by a special use permit in 1978. This permit expired December 31, 1991 and was granted an extension until January 31, 1994. In 1993 the Forest published a Notice of Intent to prepare an EIS for the reissuance of special use permit to occupy NFS land and a Record of Decision (ROD) was signed on July 29, 1994. The decision was to issue a special use easement for continued occupancy of NFS land contingent upon Water Supply and Storage Company participating in a Joint Operating Plan dated May 18, 1994. Six months after the ROD was signed the Forest executed a fifty-year easement to Water Supply and Storage Company. Trout Unlimited challenged this action by filing suit against the United States Department of Agriculture, et al. The Forest decision to authorize the continued use of Long Draw did not require bypass flows as a condition of use. Instead, the Forest accepted Water Supply and Storage Company's participation in a Joint Operation Plan, which increases winter flows in Joe Wright Creek and the Cache la Poudre River as mitigation for periods of no flow from the reservoir. In April 2004 the U.S. District Court for the District of Colorado reversed the decision of the Forest Service to issue an easement for Long Draw Reservoir without requiring bypass flows. The Court also confirmed the authority of the Forest Service to impose bypass flows during reauthorizations of permits or rights-of-way under the Federal Land Policy and Management Act for the operation and maintenance of water supply facilities on NFS lands. Based on the Court's decision the Forest is reanalyzing this project.

Purpose and Need for Action: Long Draw Reservoir and Dam is used to store water from La Poudre Pass Creek (also known as Long Draw Creek), and from the Colorado River which is imported across the continental divide through the Grand Ditch. The water from the reservoir is released into La Poudre Pass Creek and then into the Cache la Poudre River. The water is used for irrigation or traded to other water providers and in the long term, to provide municipal water to the city of Thornton. The need is for a re-authorization to occupy NFS land that minimizes damage to scenic and aesthetic values and fish and wildlife habitat and otherwise protect the environment.

Proposed Action: The proposed action is to re-issue a special use authorization to Water Supply and Storage to allow the continued use of Long Draw Reservoir and Dam.

Lead and Cooperating Agencies: Lead Agency: USDA Forest Service, Cooperating Agency: USDI National Park Service, Rocky Mountain National Park.

Responsible Official: James S. Bedwell, Forest Supervisor, Arapaho and Roosevelt National Forests and Pawnee National Grassland, 2150 Centre Avenue, Building E, Fort Collins, CO 80526.

Nature of Decision To Be Made: The deciding officer will decide whether to implement the proposed action, take an alternative action that meets the purpose and need, or take no action.

Scoping Process: The project will be included in the Arapaho and Roosevelt National Forests and Pawnee National Grasslands quarterly schedule of proposed actions. Information on the proposed action will also be posted on the Forest Web site, http://www.fs.fed.us/r2/arnf/projects/ea-projects/clrd/index.shtml and will be advertised in the Denver Post. A scoping letter will be mailed to a Forest wide mailing list, known to be interested in Forest management. Comments submitted in response to this NOI will be most useful if received within 30 days from the date of this notice. Response to the draft EIS will be sought from the interested public beginning in September 2006.

Preliminary Issues:

Local Impacts to Stream Flows, Aquatic Dependent Species and Fish

Directly below the reservoir, changes in stream channel morphology and water quantity affect the aquatic ecosystem and fish habitat. Fish abundance is often dictated by habitat conditions that occur during base flow (winter) periods. Over-winter survival defines fish population for many streams. The amounts of stream flow that occurs during these critical periods can affect fish densities, biomass species composition and distribution. The extended periods of zero flow below Long Draw Reservoir and the resulting reduction in habitat represent total loss of habitat in some locations. These habitat conditions preclude the maintenance of self-sustaining fish populations immediately downstream of Long Draw Dam.

Downstream Impacts to Threatened, Endangered, Sensitive and Management Indicator Species

Several threatened and endangered species found downstream in Colorado and Nebraska, including fish, birds, plants and an insect, would likely be affected based on the previous EIS. The list of species to be assessed will be developed with concurrence by the U.S.D.I. Fish and Wildlife Service.

Other species dependent or closely associated with water from the Rocky Mountain Region's Sensitive Species list and the Arapaho and Roosevelt National Forests and Pawnee National Grassland Management Indicator Species list will also be evaluated for effects due to the proposed action. Combined with effects of the many other water development projects in the North and South Platte drainages, the project contributes to the cumulative dewatering of the Platte River system, which has jeopardy implications to downstream threatened and endangered species as identified in the previous EIS.

Comment Requested: This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability of the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 503.3 is addressing these points.

Comments received, including the names and addresses of those who comment, will be considered part of the public record on this proposal and will be available for public inspection.

Authority: 40 CFR 1501.7 and 1508.22; Forest Service Handbook 1909.15, Section 21

Dated: May 11, 2005.
James S. Bedwell,
Forest Supervisor.

[FR Doc. 05-10377 Filed 5-24-05; 8:45 am]

BILLING CODE 3410-11-M